ENVIRONMENTAL PROTECTION AGENCY

[EPA-HQ-SFUND-2007; Docket # EPA-HW-OECA-2007-0635; FRL-8476-6]

Notice of Availability of the “Results of the Superfund Alternative Approach Evaluation” Report

AGENCY: Environmental Protection Agency.

ACTION: Notice of availability.

SUMMARY: The U.S. Environmental Protection Agency (EPA) announces the availability of the “Results of the Superfund Alternative Approach Evaluation” report for public review. Interested stakeholders may submit comments on this report which will be considered as we continue to implement this approach and as part of any future policy modifications. The Superfund Alternative Approach is an alternative to listing a contaminated site on the Superfund National Priorities List (NPL) before starting cleanup.

DATES: The report was signed on September 20, 2007. Comments must be received by December 3, 2007.

ADDRESSES: Interested stakeholders may submit comments, identified by Docket ID No. EPA-HW-OECA-2007-0635, by one of the following methods:

• www.regulations.gov: Follow the on-line instructions for submitting comments.

• E-mail: browne.nancy@epa.gov.

• Fax: 202-501-0086 Attn: Nancy Browne.

• Mail: Nancy Browne, Environmental Protection Agency, Mailcode 2272A, 1200 Pennsylvania Ave., NW., Washington, DC 20460.

The report will be available on EPA's Web site at http://www.epa.gov/compliance/resources/publications/cleanup/superfund/saa-eval-results.pdf.

Instructions: Direct your comments to Docket ID No. EPA-HW-OECA-2007-0635. EPA's policy is that all comments received will be included in the public docket without change and may be made available online at www.regulations.gov, including any personal information provided, unless the comments includes information claimed to be Confidential Business Information (CBI) or other information whose disclosure is restricted by statute. Do not submit information that you consider to be CBI or otherwise protected through www.regulations.gov or via e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Docket, EPA/DC, EPA West, Room 3334, 1301 Constitution Ave., NW., Washington, DC. The Public Reading Room is open from 8:30 a.m. to 4:30 p.m., Monday through Friday, excluding legal holidays. The telephone number for the Public Reading Room is (202) 566-1744.

FOR FURTHER INFORMATION CONTACT: Nancy Browne, Office of Site Remediation Enforcement (2272A), EPA, 1200 Pennsylvania Ave, NW., Washington, DC 20460; telephone number: 202-564-4219, fax number: 202-501-0461; e-mail address: browne.nancy@epa.gov; or Joan Fisk Neptune, Office of Superfund Remediation and Technology Innovation (5204P), EPA, 1200 Pennsylvania Ave, NW., Washington, DC 20460; telephone number: 703-603-8791; e-mail address: fisk.joan@epa.gov.

SUPPLEMENTARY INFORMATION:

I. General Information

EPA undertook an internal evaluation of its implementation of the “Revised Response Selection and Settlement Approach for Superfund Alternative Sites” guidance (the “Revised SAS Guidance”). The Revised SAS Guidance was issued June 17, 2004, and is available on EPA's Web site at http://www.epa.gov/compliance/resources/policies/cleanup/superfund/rev-sas-04.pdf (PDF 130 kb).

II. What Should I Consider as I Prepare My Comments for EPA?

A. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

B. Tips for Preparing Your Comments. When submitting comments, remember to:

• Identify the subject by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail for it to be reproduced.

• Provide specific examples to illustrate your concerns, and suggest alternatives.

• Explain your views as clearly as possible, avoiding the use of profanity and personal threats.

• Make sure to submit your comments by the comment period deadline identified.

Dated: September 27, 2007.
Susan E. Bromm,
Director, Office of Site Remediation Enforcement.
James E. Woolford,
Director, Office of Superfund Remediation and Technology Innovation.

[FR Doc. E7-19512 Filed 10-2-07; 8:45 am]

BILLING CODE 6560-50-P